INTERNATIONAL TRADE COMMISSION

[Investigation No. 332-447]

Advice Concerning Possible Modifications to the U.S. Generalized System of Preferences (GSP)

AGENCY: International Trade Commission.

ACTION: Correction of notice of investigation.

SUMMARY: Due to a typographical error, the Commission's notice published in the Federal Register on September 10, 2002 (67 FR 57450) incorrectly identified one of the HTS subheadings upon which the Commission will provide advice as to the probable economic effect on U.S. industries producing like or directly competitive articles and on consumers of the elimination of U.S. import duties for all beneficiary countries under the GSP for HTS subheading 2009.61.00; it will not provide advice on HTS subheading 2009.60.00.

Issued: September 19, 2002.
By order of the Commission.
Marilyn R. Abbott,
Secretary to the Commission.

[FR Doc. 02-24240 Filed 9-20-02; 8:45 am]

BILLING CODE 7020-02-P